ENVIRONMENTAL PROTECTION AGENCY

[FRL-8757-4]

Preliminary Listing of Additional Waters To Be Included on Illinois' 2008 List of Impaired Waters Under Section 303(d) of the Clean Water Act and Proposed Delisting of Boron Impairment for Segment E-26 of the Sangamon River

AGENCY: Environmental Protection Agency (EPA).

ACTION: Notice and request for comments.

SUMMARY: This notice announces the availability of EPA's decision identifying water quality limited segments and associated pollutants in Illinois to be listed pursuant to the Clean Water Act Section 303(d)(2), and requests public comment. Section 303(d)(2) requires that states submit and EPA approve or disapprove lists of waters for which existing technology-based pollution controls are not stringent enough to attain or maintain state water quality standards and for which total maximum daily loads (TMDLs) must be prepared.

On October 22, 2008, EPA partially approved and partially disapproved Illinois' submittal. Specifically, EPA approved Illinois' listing of waters, associated pollutants and associated priority rankings, but disapproved Illinois' decision not to list certain water quality limited segments and associated pollutants. EPA identified these additional water bodies and pollutants for inclusion on the 2008 Section 303(d) list. EPA is providing the public the opportunity to review its decision to add waters and pollutants to Illinois' 2008 Clean Water Act Section 303(d) list and its decision to delist the Boron impairment for the Sangamon waterbody. EPA will consider public comments in reaching its final decision on the additional water bodies and pollutants identified for inclusion on Illinois' final 303(d) list and the deletion of the Boron impairment.

DATES: Comments on this document must be received in writing by February 12, 2009.

ADDRESSES: Written comments on today's notice may be submitted to Timothy Henry, Acting Director, Water Division, Attn: Illinois 303(d) list, U.S. Environmental Protection Agency, 77 West Jackson Boulevard, Chicago, Illinois 60604. As an alternative, EPA will accept comments electronically. Comments should be sent to the following Internet e-mail address: keclik.donna@epa.gov.

FOR FURTHER INFORMATION CONTACT: Donna Keclik, Watersheds and Wetlands Branch, at the EPA address noted above or by telephone at (312) 886-6766.

SUPPLEMENTARY INFORMATION: Section 303(d) of the Clean Water Act (CWA) requires that each state identify those waters for which existing technology-based pollution controls are not stringent enough to attain or maintain state water quality standards. EPA's regulations include requirements related to the implementation of Section 303(d) of the CWA (40 CFR 130.7). The regulations require states to identify water quality limited waters still requiring TMDLs every two years. The lists of waters still needing TMDLs must also include priority rankings and must identify the waters targeted for TMDL development during the next two years (40 CFR 130.7).

Consistent with EPA's regulations, Illinois submitted to EPA its listing decision under Section 303(d)(2) on June 30, 2008. On October 22, 2008, EPA approved Illinois' listing of waters and associated priority rankings, and disapproved Illinois' decision not to list 343 water quality limited segments and associated pollutants for inclusion on the 2008 Section 303(d) list. More specifically, EPA disapproved Illinois' decision to delist total nitrogen as a cause of impairment for 191 water bodies and sedimentation as an impairment for 23 water bodies based on EPA's determination that the state did not provide good cause for delisting these waterbody/impairment combinations. EPA disapproved Illinois' decision to delist sulfates (nine), dissolved oxygen (DO) (15) and total dissolved solids (TDS) (105) impairments based on Illinois' new water quality standards for sulfates and DO because these new water quality standards have not yet been approved by EPA and therefore under 40 CFR 131.21 cannot be used for listing or delisting purposes. As a result of EPA's disapproval decision, EPA is placing all these water bodies with associated impairments back on Illinois section 303(d) list. The list of waterbody/pollutants that EPA is adding to the Illinois' 303(d) list and EPA's decision document are available at http://www.epa.gov/region5/water/wshednps/notices.htm.

EPA solicits public comment on its identification of the 343 waters and associated pollutants set out in Attachment 1 to EPA's decision document, Tables 1-5, for inclusion on Illinois' 2008 Section 303(d) list. The waterbody impairment combinations when added to the final list will be given the priority ranking previously identified in the 2006 303(d) list approved on June 27, 2006 which can be found at http://www.epa.state.il.us/water/tmdl/303d-list.html.

Illinois recently submitted additional information to EPA on the proposed DO standard which should enable EPA to make a decision on the proposed standard soon. EPA is still waiting for information concerning Illinois' proposed standard change for the sulfate standard which affects the listing of sulfate and TDS impairments. If a final approval action is taken by EPA on either of the newly proposed standards by the end of this public comment period these impairments will not be added to the final approved list because the specific waters at issue will be meeting the new standards for the pollutant or impairment. The specific waterbody impairment combinations for DO, sulfate, and TDS can be found in Attachment 1 Tables 1-3 to the Illinois' (303) list decision document found at Region 5's watershed Web site http://www.epa.gov/region5/water/wshednps/notices.htm above.

Since EPA's October 22, 2008 decision to partially approve and partially disapprove Illinois 2008 303(d) list, Illinois has submitted information concerning an error in listing a specific water for impairment due to boron. The specific water is segment number E-26 of the Sangamon River. In 1995, Illinois submitted to EPA an adjusted standard for this segment of the Sangamon River. Consistent with Federal regulations at 40 CFR 131.21, this adjusted standard is the effective boron water quality standard for this segment. However, in preparing its 2008 303(d) list, Illinois based its attainment determination on the statewide general use boron standard at Illinois Administrative Code Section 304.105. Illinois realized this error after EPA partially approved its 2008 303(d) list. Illinois has reviewed the data for Segment E-26 of the Sangamon River and determined that the segment attains the boron standard applicable to the segment. Illinois has provided a summary of the data to EPA. EPA reviewed the data and agrees that segment E-26 of the Sangamon River should not have been included on the Section 303(d) list as impaired due to boron, and proposes to delist segment E-26 of the Sangamon River as impaired due to boron. EPA requests comments on this delisting.

Dated: December 16, 2008.
Anthony Corollo,
Acting Director, Water Division, EPA Region 5.

[FR Doc. E8-30815 Filed 12-24-08; 8:45 am]

BILLING CODE 6560-50-P